DEPARTMENT OF TRANSPORTATION

Federal Aviation Administration

Twelfth Meeting: RTCA Special Committee 225, Rechargeable Lithium Battery and Battery Systems—Small and Medium Size

AGENCY: Federal Aviation Administration (FAA), U.S. Department of Transportation (DOT).

ACTION: Meeting notice of RTCA Special Committee 225, Rechargeable Lithium Battery and Battery Systems—Small and Medium Size.

SUMMARY: The FAA is issuing this notice to advise the public of the twelfth meeting of the RTCA Special Committee 225, Rechargeable Lithium Battery and Battery Systems—Small and Medium Size.

DATES: The meeting will be held April 2-5, 2013, from 8:30 a.m.-5:30 p.m.

ADDRESSES: The meeting will be held at the RTCA Headquarters, 1150 18th Street NW., Suite 910, Washington, DC, 20036.

FOR FURTHER INFORMATION CONTACT: The RTCA Secretariat, 1150 18th Street, NW., Suite 910, Washington, DC 20036, or by telephone at (202) 330-0662/(202) 833-9339, fax (202) 833-9434, or Web site at http://www.rtca.org. In addition, Jennifer Iversen may be contacted directly at email: jiversen@rtca.org.

SUPPLEMENTARY INFORMATION: Pursuant to section 10(a)(2) of the Federal Advisory Committee Act (Pub. L. 92-463, 5 U.S.C., App.), notice is hereby given for a meeting of Special Committee 225. The agenda will include the following:

Tuesday, April 2, 2013

• Introductions and administrative items.

• Review agenda.

• Review and approval of summary from last Plenary meeting.

• Working Group review and disposition FRAC comments.

• Review action items.

Wednesday, April 3, 2013

• Review agenda, other actions.

• Review and approve working group disposition of FRAC comments.

• Working Group review and disposition FRAC comments.

Thursday, April 4, 2013

• Review agenda, other actions.

• Review and approve working group disposition of FRAC comments.

• Working Group review and disposition FRAC comments.

Friday, April 5, 2013

• Review agenda, other actions.

• Review schedule for upcoming Plenaries, working group meetings, and document preparation.

• Review and approve working group disposition of FRAC comments.

• Review and approve working group disposition of FRAC comments.

• Establish agenda for the next Plenary.

• Adjourn.

Attendance is open to the interested public but limited to space availability. With the approval of the chairman, members of the public may present oral statements at the meeting.

Persons wishing to present statements or obtain information should contact the person listed in the FOR FURTHER INFORMATION CONTACT section. Members of the public may present a written statement to the committee at any time.

Issued in Washington, DC, on March 1, 2013.
Paige Williams,
Management Analyst, NextGen, Business Operations Group, Federal Aviation Administration.

[FR Doc. 2013-05747 Filed 3-12-13; 8:45 am]

BILLING CODE 4910-13-P